DEPARTMENT OF HEALTH AND HUMAN SERVICES

Meeting of the National Biodefense Science Board

AGENCY: Department of Health and Human Services, Office of the Secretary.

ACTION: Notice.

SUMMARY: As stipulated by the Federal Advisory Committee Act, the U.S. Department of Health and Human Services is hereby giving notice that the National Biodefense Science Board (NBSB) will be holding a public meeting. The meeting is open to the public.

DATES: The NBSB will hold a public meeting on April 22, 2009 from 1 p.m. to 5 p.m. EDT and on April 23, 2009 from 8:30 a.m. to 12:15 p.m. This agenda is subject to change as priorities dictate.

ADDRESSES: Hyatt Regency Crystal City, 2799 Jefferson Davis Highway, Arlington, VA 22202; Phone: 703-418-1234.

FOR FURTHER INFORMATION CONTACT: CAPT Leigh A. Sawyer, D.V.M., M.P.H., Executive Director, National Biodefense Science Board, Office of the Assistant Secretary for Preparedness and Response, U.S. Department of Health and Human Services, 330 C Street, SW., Switzer Building Room 5127, Washington, DC 20447; 202-205-3815; fax: 202-205-8508; e-mail address: leigh.sawyer@hhs.gov.

SUPPLEMENTARY INFORMATION: Pursuant to section 319M of the Public Health Service Act (42 U.S.C. 247d-7f) and section 222 of the Public Health Service Act (42 U.S.C. 217a), the Department of Health and Human Services established the National Biodefense Science Board. The Board shall provide expert advice and guidance to the Secretary on scientific, technical, and other matters of special interest to the Department of Health and Human Services regarding current and future chemical, biological, nuclear, and radiological agents, whether naturally occurring, accidental, or deliberate. The Board may also provide advice and guidance to the Secretary on other matters related to public health emergency preparedness and response.

The tentative agenda includes a briefing by the National Biosurveillance Advisory Subcommittee (NBAS) on Enhancing Nationwide Biosurveillance for Human Health; a briefing by the Office of the National Coordinator on Health Information Technology; and a presentation by the National Commission on Children and Disasters. The NBSB will receive updates from the Pandemic Influenza Working Group, the Disaster Medicine Working Group, the Markets and Sustainability Working Group, the Personal Preparedness Working Group, and the Disaster Mental Health Subcommittee. Additional topics will be considered during the public meeting. This agenda is subject to change as priorities dictate.

Availability of Materials: The draft agenda and other materials will be posted on the NBSB Web site at http://www.hhs.gov/aspr/omsph/nbsb prior to the meeting. This agenda is subject to change as priorities dictate.

Procedures for Providing Public Input: Any member of the public providing oral comments at the meeting must sign-in at the registration desk and provide his/her name, address, and affiliation. Members of the public may also file written comments with the committee. All written comments must be received prior to April 15, 2009 and should be sent by e-mail to NBSB@hhs.gov with “NBSB Public Comment” as the subject line or mailed to Leigh Sawyer, 330 C Street, SW., Switzer Building Room 5127, Washington, DC 20447. Individuals who plan to attend and need special assistance, such as sign language interpretation or other reasonable accommodations, should notify the designated contact person. The Public Meeting Conference Call Number is (866) 395-4129. The Conference ID is ASPR. Participants will be asked to provide their name, title, and organization.

Dated: March 30, 2009.
RADM William C. Vanderwagen,
Assistant Secretary for Preparedness and Response, U.S. Department of Health and Human Services.

[FR Doc. E9-7550 Filed 4-3-09; 8:45 am]

BILLING CODE 4150-37-P